DEPARTMENT OF COMMERCE

National Oceanic and Atmospheric Administration

RIN 0648-XD49

Pacific Whiting; Advisory Panel

AGENCY: National Marine Fisheries Service (NMFS), National Oceanic and Atmospheric Administration (NOAA), Commerce.

ACTION: Notice.

SUMMARY: NMFS is continuing its solicitation of nominations for the Advisory Panel (AP) on Pacific Whiting called for in the Pacific Whiting Act of 2006 (Act). An initial solicitation was published in the Federal Register on October 24, 2007 and resulted in insufficient nominations to meet the requirements of the Act. Nominations are being sought for at least 6, but not more than 12 individuals to serve as United States representatives on the AP. Nomination packages received during the initial solicitation period will be considered in final selection of United States representatives to the AP and it is not necessary to resubmit them.

DATES: Nominations must be received April 9, 2008.

ADDRESSES: You may submit nominations by any of the following methods:

• E-mail: WhitingAP.nwr@noaa.gov: Include 0648-XD49 in the subject line of the message.

• Fax: 206-526-6736, Attn: Frank Lockhart.

• Mail: D. Robert Lohn, Administrator, Northwest Region, NMFS, 7600 Sand Point Way NE, Seattle, WA, 98115-0070.

It is not necessary to resubmit nomination packages that were sent in during the initial solicitation period.

FOR FURTHER INFORMATION CONTACT: Frank Lockhart at 206-526-6142.

SUPPLEMENTARY INFORMATION: Title VI of the Magnuson-Stevens Fishery Conservation and Management Reauthorization Act of 2006 (MSRA) entitled “The Pacific Whiting Act of 2006,” implements the 2003 “Agreement Between the Government of the United States of America and the Government of Canada on Pacific Hake/Whiting.” Among other provisions, the Whiting Act provides for the establishment of an AP to advise the Joint U.S. Canada Management Committee on bilateral whiting management issues. An initial solicitation was published in the Federal Register on October 24, 2007 (72 FR 60317) and resulted in insufficient nominations to meet the requirements of the Act. Nominations are being sought to fill at least 6 but no more than 12 positions on the Pacific Whiting AP for terms of 4-years. The Whiting Act requires that appointments to the AP be selected from among individuals who are “(A) knowledgeable or experienced in the harvesting, processing, marketing, management, conservation, or research of the offshore whiting resource: and (B) not employees of the United States.” Nominations are sought for any persons meeting these requirements.

Nomination Packages for appointment to the AP should include:

1. The name of the applicant or nominee and a description of his/her interest in Pacific whiting; and,

2. A statement of background and/or description of how the above qualifications are met.

The term of office for the Pacific Whiting AP members will be for 4-years (48 months). Members appointed to the AP will be reimbursed for necessary travel expenses.

In the initial year of treaty implementation, NMFS anticipates that up to 3 meetings of the AP will be required. In subsequent years, 1-2 meetings of the AP will be held annually. Meetings of the AP will be held in the United States or Canada. AP members will need a valid U.S. passport. Meetings of the AP will be held concurrently with those of the Joint Management Committee, once per year for a period not to exceed 5 days in duration.

The Pacific Whiting Act of 2006 also states that while performing their appointed duties as AP members, members “shall be considered to be Federal Employees only for purposes of: (1) injury compensation under chapter 81 of title 5, United States Code; (2) requirements concerning ethics, conflicts of interest, and corruption as provided under title 18, United States Code; and, (3) any other criminal or civil statute or regulation governing the conduct of Federal employees.”

Authority: 16 U.S.C. 1801 et seq.

Dated: March 4, 2008.
Emily H. Menashes,
Acting Director, Office of Sustainable Fisheries, National Marine Fisheries Service.

[FR Doc. E8-4683 Filed 3-7-08; 8:45 am]

BILLING CODE 3510-22-S